NUCLEAR REGULATORY COMMISSION

[NRC-2017-0153]

Draft Fiscal Years 2018-2022 Strategic Plan

AGENCY: Nuclear Regulatory Commission.

ACTION: Draft NUREG; request for comment.

SUMMARY: The U.S. Nuclear Regulatory Commission (NRC) is requesting comment on draft NUREG-1614, Volume 7, “Draft Strategic Plan: Fiscal Years 2018-2022.” The draft Strategic Plan provides the agency's strategic goals and objectives and proposed strategies for achieving them. The NRC encourages and welcomes public comments that can help it respond to challenges and shape its strategic direction over the next four years, particularly comments on the plan's goals, objectives, and strategies.

DATES: Submit comments by October 26, 2017. Comments received after this date will be considered if it is practical to do so, but the NRC is only able to ensure consideration of comments received on or before this date.

ADDRESSES: You may submit comments by any of the following methods:

• Federal rulemaking Web site: Go to http://www.regulations.gov and search for Docket ID NRC-2017-0153. Address questions about NRC dockets to Carol Gallagher; telephone: 301-287-3422; email: Carol.Gallagher@nrc.gov. For technical questions, contact the individual listed in the FOR FURTHER INFORMATION CONTACT section of this notice.

• Mail comments to: Cindy Bladey, Office of Administration, Mail Stop: TWFN-08-D36M, U.S. Nuclear Regulatory Commission, Washington, DC 20555-0001.

For additional direction on accessing information and submitting comments, see “Accessing Information and Submitting Comments” in the SUPPLEMENTARY INFORMATION section of this document.

FOR FURTHER INFORMATION CONTACT: June Cai, Office of the Executive Director for Operations, U.S. Nuclear Regulatory Commission, Washington, DC 20555-0001; telephone: 301-415-1771; email: June.Cai@nrc.gov.

SUPPLEMENTARY INFORMATION:

I. Accessing Information and Submitting Comments

A. Accessing Information

Please refer to Docket ID NRC-2017-0153 when contacting the NRC about the availability of information for this draft Strategic Plan. You may access publicly-available information related to this action by the following methods:

• Federal Rulemaking Web site: Go to http://www.regulations.gov and search for Docket ID NRC-2017-0153.

• NRC's Agencywide Documents Access and Management System (ADAMS): You may obtain publicly-available documents online in the ADAMS Public Documents collection at http://www.nrc.gov/reading-rm/adams.html. To begin the search, select “ADAMS Public Documents” and then select “Begin WBA Search.” For problems with ADAMS, please contact the NRC's Public Document Room (PDR) reference staff at 1-800-397-4209, 301-415-4737, or by email to pdr.resource@nrc.gov. The draft Strategic Plan is available in ADAMS under Accession No. ML17254A104.

• NRC's PDR: You may examine and purchase copies of public documents at the NRC's PDR, Room O1-F21, One White Flint North, 11555 Rockville Pike, Rockville, Maryland 20852.

• NRC's Public Web site: The NRC's draft Strategic Plan may be viewed online on the NRC's Public Web site on the Documents for Comment Web page at https://www.nrc.gov/public-involve/doc-comment.html, under “Draft NUREG-Series Publications.”

B. Submitting Comments

Please include Docket ID NRC-2017-0153 in the subject line of your comment submission in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In accordance with the Government Performance and Results (GPRA) Modernization Act of 2010, agencies are required to submit their strategic plans to Congress the year following the start of a Presidential term. The Commission has approved a draft Strategic Plan and is now seeking comments from the public so that the agency may benefit from a wide range of stakeholder input to help shape the NRC's strategic direction for the upcoming planning period.

III. Draft Strategic Plan

The NRC is an independent agency established by the Energy Reorganization Act of 1974 that began operations in 1975 as a successor to the Atomic Energy Commission. The NRC's mission is to license and regulate the Nation's civilian use of radioactive materials to provide reasonable assurance of adequate protection of public health and safety and to promote the common defense and security and to protect the environment. The draft Strategic Plan, covering the period Fiscal Years 2018-2022, describes how the NRC plans to achieve its two strategic goals: (1) Ensure the safe use of radioactive materials, and (2) ensure the secure use of radioactive materials. The draft Strategic Plan provides an overview of the NRC's responsibilities and lays out the objectives, strategies, and key activities that will be used to achieve the agency's strategic goals.

The NRC encourages all interested parties to comment on the draft Strategic Plan, particularly on the plan's goals, objectives, and strategies. Stakeholder feedback will be valuable in helping the Commission develop a final Strategic Plan that has the benefit of the many views of the public and the regulated civilian nuclear industry. The NRC will consider the comments submitted and may use them, as appropriate, in the preparation of the final Strategic Plan; however, the NRC does not anticipate preparing explicit responses to each comment.

Dated at Rockville, Maryland, this 20th day of September 2017.
For the Nuclear Regulatory Commission.
Annette L. Vietti-Cook,
Secretary of the Commission.

[FR Doc. 2017-20538 Filed 9-25-17; 8:45 am]

BILLING CODE 7590-01-P